NATIONAL COMMISSION ON TERRORIST ATTACKS UPON THE UNITED STATES

Public Hearing

ACTION: Notice of public hearing.

SUMMARY: The National Commission on Terrorist Attacks Upon the United States will hold its twelfth and final public hearing on June 16-17, 2004, in Washington, DC. The two-day hearing will focus on two district topics: the “9-11 Plot” and “National Crisis Management.” The hearing will be open to the public and members of the media. Seating will be provided on a first-come, first-served basis, and doors will open at 7 a.m. Members of the media must register by the close of business on June 14, 2004, by visiting the Commission's Web site, www.9-11commission.gov.

DATES: June 16, 2004: 8:30 a.m. to 3:15 p.m. and June 17, 2004: 8 a.m. to 1 p.m.

Location: National Transportation Safety Board Conference Center, 429 L'Enfant Plaza SW., Washington, DC 20594.

FOR FURTHER INFORMATION CONTACT: Al Felzenberg or Jonathan Stull at (202) 401-1627, (202) 494-3538 (cellular), or jstull@9-11commission.gov.

SUPPLEMENTARY INFORMATION: Please refer to Public Law 107-306 (November 27, 2002), title VI (Legislation creating the Commission), and the Commission's Web site: www.9-11commission.gov.

Dated: June 14, 2004.
Philip Zelikow,
Executive Director.

[FR Doc. 04-13733 Filed 6-15-04; 10:55 am]

BILLING CODE 8800-01-M